DEPARTMENT OF TRANSPORTATION

Federal Aviation Administration

14 CFR Part 39

[Docket No. FAA-2019-0113; Product Identifier 2017-SW-140-AD; Amendment 39-21584; AD 2021-11-22]

RIN 2120-AA64

Airworthiness Directives; Airbus Helicopters Deutschland GmbH Helicopters

AGENCY: Federal Aviation Administration (FAA), DOT.

ACTION: Final rule.

SUMMARY: The FAA is superseding Airworthiness Directive (AD) 2016-11-21 for Airbus Helicopters Deutschland GmbH (Airbus Helicopters) Model EC135P1, EC135P2, EC135P2+, EC135T1, EC135T2, and EC135T2+ helicopters. AD 2016-11-21 required revising the life limit of certain parts and removing each part that has reached its life limit. This AD continues to require revising the life limits for certain parts and removing each part that has reached or exceeded its life limit and expands the applicability to include Model EC135P3 and EC135T3 helicopters. This AD was prompted by the certification of new helicopter models since AD 2016-11-21 was issued. The FAA is issuing this AD to address the unsafe condition on these products.

DATES: This AD is effective July 16, 2021.

The Director of the Federal Register approved the incorporation by reference of a certain publication listed in this AD as of July 16, 2021.

ADDRESSES: For service information identified in this final rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110. It is also available at https://www.regulations.gov by searching for and locating Docket No. FAA-2019-0113.

Examining the AD Docket

You may examine the AD docket at https://www.regulations.gov by searching for and locating Docket No. FAA-2019-0113; or in person at Docket Operations between 9 a.m. and 5 p.m., Monday through Friday, except Federal holidays. The AD docket contains this final rule, the European Aviation Safety Agency (now European Union Aviation Safety Agency) (EASA) AD, any service information that is incorporated by reference, any comments received, and other information. The address for Docket Operations is U.S. Department of Transportation, Docket Operations, M-30, West Building Ground Floor, Room W12-140, 1200 New Jersey Avenue SE, Washington, DC 20590.

FOR FURTHER INFORMATION CONTACT: Matt Fuller, AD Program Manager, Operational Safety Branch, Airworthiness Products Section, General Aviation & Rotorcraft Unit, FAA, 10101 Hillwood Pkwy., Fort Worth, TX 76177; telephone 817-222-5110; email matthew.fuller@faa.gov.

SUPPLEMENTARY INFORMATION:

Background

The FAA issued a notice of proposed rulemaking (NPRM) to amend 14 CFR part 39 to supersede AD 2016-11-21, Amendment 39-18548 (81 FR 36137, June 6, 2016), (AD 2016-11-21) which applied to Airbus Helicopters Model EC135P1, EC135P2, EC135P2+, EC135T1, EC135T2, and EC135T2+ helicopters. The NPRM published in the Federal Register on March 8, 2021 (86 FR 13237). In the NPRM, the FAA proposed to require, before further flight, establishing a life limit for the tail rotor hub body of 27,400 hours time-in-service (TIS) or using Airbus Helicopters service information if the history of the tail rotor hub body is not known or cannot be identified. The NPRM also proposed to require establishing life limits for certain swashplate and mixing lever gear unit parts in the Airworthiness Limitations Section (ALS) of the existing maintenance manual for your helicopter, and recording the revised life limit on the component history card or equivalent record. Additionally, the NPRM proposed to require continuing to record the life limit of certain parts that have not reached their life limit. Finally, the NPRM proposed to require removing from service any part that reached or exceeded its life limit.

The NPRM was prompted by EASA AD 2017-0243, dated December 6, 2017 (EASA AD 2017-0243), issued by EASA, which is the Technical Agent for the Member States of the European Union, to correct an unsafe condition Airbus Helicopters Model EC135P1, EC135P2, EC135P2+, EC135P3, EC135T1, EC135T2, EC135T2+, EC135T3, EC635P2+, EC635P3, EC635T1, EC635T2+, and EC635T3 helicopters. EASA AD 2017-0243 superseded EASA AD 2013-0178, dated August 7, 2013 (EASA AD 2013-0178), which was prompted by Airbus Helicopters revising the airworthiness limitations for the Model EC135 and EC635 helicopters' type design as published in the Master Servicing Manual (MSM) EC135 Chapter 04—ALS documents. Revision 14 of the MSM contains these new airworthiness limitations. EASA stated that failure to comply with these limitations could result in failure of a critical part, which could result in loss of control of the helicopter. Accordingly, EASA AD 2013-0178 required revising the ALS to include the new life limits and replacing each part that has reached its life limit. Superseding EASA AD 2017-0243 expands the applicability to include Airbus Helicopters Model EC135P3, EC135T3, EC635P3, and EC635T3 helicopters. New life limits were also added for some parts.

Comments

The FAA received comments from one commenter. The following presents the comments received on the NPRM and the FAA's response.

The individual commented that the NPRM sets the life limit for the hinged support part number (P/N) L671M7003210 at 8,400 hours TIS but that the life limit of this component is at 19,000 hours per ALS Rev 01 chapter 04-10-00. The individual also commented that the NPRM sets the life limit for the bolt P/N L671M7001220 at 8,400 hours TIS but that the life limit of this component is at 19,000 hours per ALS Rev 01 chapter 04-10-00. The FAA agrees and has changed this AD to the revise the life limit to 19,000 hours TIS for the hinged support and the bolt.

Conclusion

These helicopters have been approved by EASA and are approved for operation in the United States. Pursuant to the FAA's bilateral agreement with the European Union, EASA has notified the FAA about the unsafe condition described in its AD. The FAA reviewed the relevant data, considered the comments received, and determined that air safety requires adopting this AD as proposed except for increasing the life limit for the hinged support and bolt. These changes will neither increase the scope of the AD nor increase the economic burden on any operator. Accordingly, the FAA is issuing this AD to address the unsafe condition on these helicopters.

Related Service Information Under 1 CFR Part 51

The FAA reviewed Airbus Helicopters Alert Service Bulletin ASB EC135-04A-012, Revision 0, dated September 11, 2017, which specifies incorporating life limits for the tail rotor hub body into the tail rotor hub log card and into the list of life-limited parts. Airbus Helicopters reports the addition of the tail rotor hub body into the tail rotor hub log card was prompted by a new, recently manufactured, serial-numbered hub.

This service information is reasonably available because the interested parties have access to it through their normal course of business or by the means identified in the ADDRESSES section.

Differences Between This AD and the EASA AD

The EASA AD applies to Model EC635P2+, EC635P3, EC635T2+, and EC635T3 helicopters, whereas this AD does not because these model helicopters are not FAA type-certificated. The EASA AD requires revising the Aircraft Maintenance Program with new or revised life limitations within 12 months after the EASA AD's effective date. This AD requires revising the life limit for certain parts in the ALS of the existing maintenance manual for your helicopter before further flight.

Costs of Compliance

The FAA estimates that this AD affects 272 helicopters of U.S. Registry. The FAA estimates that operators may incur the following costs in order to comply with this AD. Labor costs are estimated at $85 per work-hour.

Revising the component history card or equivalent record will take about 2 work-hours, for an estimated cost of $170 per helicopter and $46,240 for the U.S. fleet.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-11-21, Amendment 39-18548 (81 FR 36137, June 6, 2016); and

b. Adding the following new AD:

2021-11-22 Airbus Helicopters Deutschland GmbH: Amendment 39-21584; Docket No. FAA-2019-0113; Product Identifier 2017-SW-140-AD.

(a) Applicability

This airworthiness directive (AD) applies Airbus Helicopters Deutschland GmbH Model EC135P1, EC135P2, EC135P2+, EC135P3, EC135T1, EC135T2, EC135T2+, and EC135T3 helicopters, certificated in any category.

(b) Unsafe Condition

The FAA is issuing this AD to prevent certain parts from remaining in service beyond their fatigue life, resulting in failure of the part and subsequent loss of control of the helicopter.

(c) Affected ADs

This AD replaces AD 2016-11-21, Amendment 39-18548 (81 FR 36137, June 6, 2016).

(d) Effective Date

This AD is effective July 16, 2021.

(e) Compliance

You are responsible for performing each action required by this AD within the specified compliance time unless it has already been accomplished prior to that time.

(f) Required Actions

(1) Before further flight, establish a life limit for the tail rotor hub body (hub body), part number (P/N) L642A2003102, of 27,400 hours time-in-service (TIS). If you cannot determine the hub body's TIS, follow the instructions in Table 1, Examples and Calculations, Effectivity: The history of the hub body is not known or can't be identified, in Airbus Helicopters Alert Service Bulletin ASB EC135-04A-012, Revision 0, dated September 11, 2017, except where the service information specifies that you contact the manufacturer, you are required to remove the part from service instead.

(2) Before further flight, revise the life limit for each part listed in paragraphs (f)(2)(i) and (ii) of this AD in the Airworthiness Limitations Section (ALS) of the existing maintenance manual for your helicopter and record the revised life limit on the component history card or equivalent record as follows:

(i) For swashplate parts:

(A) The life limit for the ring (control ring), P/N L623M2001213, is 10,700 hours TIS.

(B) The life limit for the cardan ring (two-part), P/N L623M2005205, is 14,300 hours TIS.

(C) The life limit for the bolt (control ring), P/N L671M7001215, is 14,300 hours TIS.

(D) The life limit for the bolt (sliding sleeve), P/N L623M2006206 and P/N L623M2006213, is 14,300 hours TIS.

(ii) For mixing lever gear unit parts:

(A) The life limit for the forked lever assembly, P/N L671M3012102, is 10,400 hours TIS.

(B) The life limit for the hinged support, P/N L671M7003210, is 19,000 hours TIS.

(C) The life limit for the bolt, P/N L671M7001220, is 19,000 hours TIS.

(3) Before further flight, remove from service any part listed in paragraphs (f)(1) and (2) of this AD that has reached or exceeded its revised life limit.

(4) Thereafter, for any part listed in paragraphs (f)(1) and (2) of this AD that has not reached or exceeded its life limit, continue to record the life limit of the part on its component history card or equivalent record and remove any part listed in paragraphs (f)(1) and (2) of this AD from service before the part has reached or exceeded its revised life limit.

(g) Special Flight Permits

Special flight permits are limited to a onetime flight to a maintenance facility to replace a part that has reached its life limit.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Additional Information

(1) For more information about this AD, contact Matt Fuller, AD Program Manager, Operational Safety Branch, Airworthiness Products Section, General Aviation & Rotorcraft Unit, FAA, 10101 Hillwood Pkwy., Fort Worth, TX 76177; telephone 817-222-5110; email matthew.fuller@faa.gov.

(2) The subject of this AD is addressed in European Aviation Safety Agency (now European Union Aviation Safety Agency) (EASA) AD 2017-0243, dated December 6, 2017. You may view the EASA AD at https://www.regulations.gov in Docket No. FAA-2019-0113.

(j) Subject

Joint Aircraft Service Component (JASC) Code: 6400, Tail Rotor System.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin ASB EC135-04A-012, Revision 0, dated September 11, 2017.

(ii) [Reserved]

(3) For Airbus Helicopters service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email: fedreg.legal@nara.gov, or go to: https://www.archives.gov/federal-register/cfr/ibr-locations.html.

Issued on May 21, 2021.
Gaetano A. Sciortino,
Deputy Director for Strategic Initiatives, Compliance & Airworthiness Division, Aircraft Certification Service.

[FR Doc. 2021-12228 Filed 6-10-21; 8:45 am]

BILLING CODE 4910-13-P